DEPARTMENT OF ENERGY

Federal Energy Regulatory Commission

[Project No. 10661-051]

Indiana Michigan Power Company; Notice of Denial of Water Quality Certification

On September 30, 2021, Indiana Michigan Power Company (I&M Power) filed an application for a new license for the Constantine Hydroelectric Project (project). I&M Power filed with the Michigan Department of Environment, Great Lakes, and Energy (Michigan EGLE) a request for water quality certification for the project under section 401(a)(1) of the Clean Water Act on November 30, 2022. On June 1, 2023, Michigan EGLE denied certification for the project. I&M Power filed a copy of Michigan EGLE's denial of certification on August 11, 2023. Pursuant to 40 CFR 121.8, we are providing notice that Michigan EGLE's denial satisfies the requirements of 40 CFR 121.7(e).

Dated: August 30, 2023.
Kimberly D. Bose,
Secretary.

[FR Doc. 2023-19220 Filed 9-6-23; 8:45 am]

BILLING CODE 6717-01-P